DEPARTMENT OF HEALTH AND HUMAN SERVICES

Food and Drug Administration

[Docket No. FDA-2019-N-1281]

General and Plastic Surgery Devices Panel of the Medical Devices Advisory Committee; Amendment of Notice

AGENCY: Food and Drug Administration, HHS.

ACTION: Notice.

SUMMARY: The Food and Drug Administration (FDA) is announcing an amendment to the notice of meeting of the General and Plastic Surgery Devices Panel of the Medical Devices Advisory Committee. This meeting was announced in the Federal Register of April 24, 2019. The amendment is being made to reflect a change in the DATES portion of the document. There are no other changes.

FOR FURTHER INFORMATION CONTACT: Patricio Garcia, Center for Devices and Radiological Health, Food and Drug Administration, 10903 New Hampshire Ave., Bldg. 66, Rm. G610, Silver Spring, MD 20993, 301-796-6875, Patricio.garcia@fda.hhs.gov; or FDA Advisory Committee Information Line, 1-800-741-8138 (301-443-0572 in the Washington, DC area). Please call the Information Line for up-to-date information on this meeting.

SUPPLEMENTARY INFORMATION: In the Federal Register of April 24, 2019 (84 FR 17173), FDA announced that a meeting of the General and Plastic Surgery Devices Panel of the Medical Devices Advisory Committee would be held on May 30, 2019, from 10 a.m. to 4 p.m. On page 17173, in the third column, in the DATES section, the sentence “The meeting will be held on May 30, 2019, from 10 a.m. to 4 p.m. and on May 31, 2019, from 8 a.m. to 4 p.m.” is changed to read as follows:

The meeting will be held on May 30, 2019, from 9 a.m. to 4 p.m. and on May 31, 2019, from 8 a.m. to 4 p.m.

This notice is issued under the Federal Advisory Committee Act (5 U.S.C. app. 2) and 21 CFR part 14, relating to the advisory committees.

Dated: May 21, 2019.
Lowell J. Schiller,
Principal Associate Commissioner for Policy.

[FR Doc. 2019-10900 Filed 5-23-19; 8:45 am]

BILLING CODE 4164-01-P